DEPARTMENT OF DEFENSE

Office of the Secretary

[Docket ID: DoD-2023-HA-0101]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Certificate of Death; DD Form 2064; OMB Control Number: 0720-COFD.

Needs and Uses: DD 2064, Certificate of Death, is used by family members of deceased DoD employees and contractors to settle estates, insurance claims, and other post death related matters. The form is also used by the DoD to track the cause and manner of death of service members, federal employees, as well as their family members and dependents when a death occurs outside the continental United States (OCONUS). DD 2064 generates a death certificate that is accessible to next-of-kin. The form is also used by OCONUS hospitals and allows for the transportation of human remains. In addition to the DD 2064, a Death Certificate Information Sheet is completed to gather additional related information. This collection of information is authorized by 10 U.S.C. 1471, “Forensic Pathology Investigations”; 10 U.S.C. 1509, “Program to Resolve Missing Persons Cases”; and DoD Instruction 5154.30, “Armed Forces Medical Examiner System (AFMES) Operations.”

AFMES is a government-developed system that provides medical examiners the ability to track and record autopsy and consultation information. Information is pushed from the Defense Casualty Information Processing System (DCIPS) in to AFMES. If needed, additional information required to complete the DD 2064 may be collected by medical legal death investigators. This information may be collected from the deceased's next-of-kin or workplace over the phone or via email. The additional collected information is recorded into AFMES. To generate a DD 2064, the aggregate collected information contained within AFMES is synthesized electronically to fill respective fields on the DD 2064. This form is signed by the examining pathologist. The completed and signed document is retained within AFMES. Depending on circumstances, the completed DD 2064 is sent to the deceased's next-of-kin, the designated funeral home, or the branch casualty office by Federal Express Certified Mail. If the deceased was a member of the military at the time of death, the DD 2064 may be downloaded by the service casualty offices who will print out copies to disseminate as required.

Affected Public: Individuals or households.

Annual Burden Hours: 170.

Number of Respondents: 170.

Responses per Respondent: 1.

Annual Responses: 170.

Average Burden per Response: 1 hour.

Frequency: On occasion.

Dated: October 16, 2023.
Aaron T. Siegel,
Alternate OSD Federal Register Liaison Officer, Department of Defense.

[FR Doc. 2023-23133 Filed 10-19-23; 8:45 am]

BILLING CODE 6001-FR-P